DEPARTMENT OF COMMERCE

INTERNATIONAL TRADE ADMINISTRATION

Advisory Committee on Africa: Notice of Open Meeting

AGENCY: International Trade Administration/Deputy Assistant Secretary for Africa, Commerce.

SUMMARY: The Advisory Committee on Africa was established to advise the Secretary of Commerce and the Deputy Secretary of Commerce on commercial policy issues in Sub-Saharan Africa.

TIME AND PLACE: July 6, 2000 from 10 a.m. to 12 noon. The meeting will take place at the Main Department of Commerce Building, Room 4830, 14th Street and Constitution Avenue, NW, Washington, DC 20230.

AGENDA:

1. Discuss steps to implement the recently passed African Growth and Opportunity Act (AGOA).

2. Discuss Export-Import Bank's rand-denominated loan guarantee facility in South Africa.

3. Discuss Deputy Secretary Mallett's June 2000 visit to Kenya, South Africa and Mauritius.

PUBLIC PARTICIPATION: The meeting will be open to public participation. Seating will be available on a first-come first-served basis. Members of the public who plan to attend are requested to advise Ms. Alicia Robinson, Office of Africa, tel: 202-482-5148, fax: 202-482-5198, e-mail: ­alicia_robinson@ita.doc.gov.

FOR FURTHER INFORMATION CONTACT: Ms. Alicia Robinson, Office of Africa, Room 2037, U.S. Department of Commerce; tel: 202-482-5148, fax: 202-482-5198, e-mail: alicia_robinson@ita.doc.gov.

Dated: June 6, 2000.
Sally Miller,
Director, Office of Africa.

[FR Doc. 00-15105 Filed 6-14-00; 8:45 am]

BILLING CODE 3510-DA-P